DEPARTMENT OF HOUSING AND URBAN DEVELOPMENT

[Docket No. FR-5830-C-07]

60-Day Notice of Proposed Information Collection; Legal Instructions Concerning Applications for Full Insurance Benefits—Assignment of Multifamily Mortgages to the Secretary; Correction of Web Site Address for Form

AGENCY: Office of the General Counsel, HUD.

ACTION: Notice.

SUMMARY: On September 10, 2015, HUD published in the Federal Register a notice seeking approval from the Office of Management and Budget (OMB) for the information collection described in the September 10, 2015, notice. The September 10, 2015, notice provided a web address where the existing information collection document and proposed to be changed could be found, but the web address was incorrect. This document provides the corrected webaddress, which is http://portal.hud.gov/hudportal/documents/huddoc?id=leginstrfullinsben.pdf. All remaining information in the September 10, 2015, is unchanged.

FOR FURTHER INFORMATION CONTACT: For information about this technical correction, Camille E. Acevedo, Associate General Counsel for Legislation and Regulations, Office of General Counsel, Department of Housing and Urban Development, 451 7th Street SW., Room 10282, Washington, DC 20410-0500, telephone (202) 708-3055 (this is not a toll-free number).

SUPPLEMENTARY INFORMATION: On September 10, 2015, at 80 FR 54581, HUD published in the Federal Register a notice seeking approval from the Office of Management and Budget (OMB) on the information collection, as proposed to be revised, in HUD's Legal Instructions Concerning Applications for Full Insurance Benefits—Assigment of Multifamily Mortgage. To assist interested parties in understanding the information that HUD proposed to change in this document, HUD cited to a web address where the current document could be found. However, the web address was incorrect. The correct web address is http://portal.hud.gov/hudportal/documents/huddoc?id=leginstrfullinsben.pdf. All other information in the September 10, 2015, notice remains unchanged.

Dated: September 14, 2015.
Camille E. Acevedo,
Associate General Counsel for Regulations and Legislation.

[FR Doc. 2015-23362 Filed 9-16-15; 8:45 am]

BILLING CODE 4210-67-P